DEPARTMENT OF JUSTICE

Notice of Lodging Proposed Consent Decree

In accordance with Departmental Policy, 28 CFR 50.7, notice is hereby given that a proposed Consent Decree in United States v. St. Marys Railway West LLC and Claudius R. Strickland, Civil Action No. 5:13-cv-0028-LGW-JEG, was lodged with the United States District Court for the Southern District of Georgia on June 11, 2014.

The proposed Consent Decree concerns a complaint filed by the United States against St. Marys Railway West LLC and Claudius R. Strickland, pursuant to Sections 402 and 404 of the Clean Water Act, 33 U.S.C. 1342 and 1344, to obtain injunctive relief from and impose civil penalties against the Defendants for violating the Clean Water Act by discharging pollutants without a permit into waters of the United States. The proposed Consent Decree resolves these allegations by requiring the Defendants to pay for mitigation and to pay a civil penalty.

The Department of Justice will accept written comments relating to the proposed Consent Decree for thirty (30) days from the date of publication of this Notice. Please address comments to Paul Cirino, Environmental Defense Section, United States Department of Justice, Post Office Box 7611, Washington, DC 20044-7611 and refer to United States v. St. Marys Railway West LLC and Claudius R. Strickland, DJ # 90-5-1-1-18821.

The proposed Consent Decree may be examined at any of the Clerk's Offices, United States District Court for the Southern District of Georgia, including the location at 601 Tebeau Street, Waycross, GA 31501. In addition, the proposed Consent Decree may be examined electronically at http://www.justice.gov/enrd/Consent_Decrees.html.

Cherie L. Rogers,
Assistant Section Chief, Environmental Defense Section, Environment and Natural Resources Division.

[FR Doc. 2014-14195 Filed 6-17-14; 8:45 am]

BILLING CODE 4410-15-P